DEPARTMENT OF JUSTICE

Antitrust Division

Notice Pursuant to the National Cooperative Research and Production Act of 1993—VSI Alliance

Notice is hereby given that, on July 5, 2001, pursuant to Section 6(a) of the National Cooperative Research and Production Act of 1993, 15 U.S.C. 4301 et seq. (“the Act”), VSI Alliance has filed written notifications simultaneously with the Attorney General and the Federal Trade Commission disclosing changes in its membership status. The notifications were filed for the purpose of extending the Act's provisions limiting the recovery of antitrust plaintiffs to actual damages under specified circumstances. Specifically, ATMOS Corporation, Kanata, Ontario, CANADA; Ellipsis Digital Systems, Inc., Carlsbad, CA; Hefei University of Technology—The Institute of VLSI Design, Hefei, PEOPLE'S REPUBLIC OF CHINA; HDLab, Inc., Yokohama, JAPAN; IPTC Corporation, Yokohama, JAPAN; Jet Propulsion Laboratory, Pasadena, CA; Kyoto University—Dept. of Communications & Computer Engineering, Kyoto, JAPAN; Microelectronics Centre of Harbin Institute of Technology, Harbin, PEOPLE'S REPUBLIC OF CHINA; Brahmaji Potu, Ph.D. (individual member), Cupertino, CA; Eung Shin (individual member), Atlanta, GA; Spiratech Ltd., Manchester, England, UNITED KINGDOM; Spirea AB, Kista, SWEDEN; Christos Sotiriou (individual member), Herachon-Crete, GREECE; Vulcan Machines Limited, Royston, Hertfordshire, England, UNITED KINGDOM; and Xylon, Zagreb, CROATIA have been added as parties to this venture. Also, Advanced Hardware Architecture, Pullman, WA; Agilent Technologies, Corvallis, OR; Angeles Design Systems, San Jose, CA; Aptix Corp., San Jose, CA; Ben Cheese Electronic Design, Royston, Hertfordshire, England, UNITED KINGDOM; DSP Group Inc., Herzlia, ISRAEL; Ikos Systems, Cupertino, CA; IMODL, San Jose, CA; Levetate Design Systems, Beaverton, OR; Lucent Technologies, Allentown, PA; Magima, Inc., Monterey Park, CA; National Semiconductor Corp., Santa Clara, CA; Power X Limited, Sale, Cheshire, England, UNITED KINGDOM; Q Systems, Inc., Festerville, PA; The Western Design Center, Mesa, AZ; Glenn Vinogradov (individual member), Newton, PA; and Xentec, Inc., Oakville, Ontario, CANADA have been dropped as parties to this venture.

No other changes have been made in either the membership or planned activity of the group research project. Membership in this group research project remains open, and VSI Alliance intends to file additional written notification disclosing all changes in membership.

On November 29, 1996, VSI Alliance filed its original notification pursuant to Section 6(a) of the Act. The Department of Justice published a notice in the Federal Register pursuant to Section 6(b) of the Act on March 4, 1997 (62 FR 9812).

The last notification was filed with the Department on April 10, 2001. A notice was published in the Federal Register pursuant to Section 6(b) of the Act on May 23, 2001 (66 FR 28548).

Constance K. Robinson,
Director of Operations, Antitrust Division.

[FR Doc. 01-18900 Filed 7-27-01; 8:45 am]

BILLING CODE 4410-11-M